INTERNATIONAL TRADE COMMISSION

[USITC SE-03-035]

Sunshine Act Meeting

Agency Holding the Meeting: United States International Trade Commission.

Time and Date: November 17, 2003 at 11 a.m.

Place: Room 101, 500 E Street SW., Washington, DC 20436, Telephone: (202) 205-2000.

Status: Open to the public.

Matters to be Considered: 1. Agenda for future meetings: none.

2. Minutes.

3. Ratification List.

4. Inv. Nos. 731-TA-391-394, 396-397, and 399 (Review) (Remand) (Ball Bearings from France, Germany, Italy, Japan, Singapore, Sweden, and the United Kingdom)—briefing and vote. (The Commission is currently scheduled to transmit Commissioners' views on remand to the United States Court of International Trade on or before December 2, 2003.)

5. Outstanding action jackets: none.

In accordance with Commission policy, subject matter listed above, not disposed of at the scheduled meeting, may be carried over to the agenda of the following meeting.

Issued: November 6, 2003.
By order of the Commission.
Marilyn R. Abbott,
Secretary to the Commission.

[FR Doc. 03-28362 Filed 11-6-03; 2:21 pm]

BILLING CODE 7020-02-P